DEPARTMENT OF LABOR

Employment and Training Administration

[TA-W-65,896]

North River Boats, Roseburg, OR; Notice of Termination of Investigation

Pursuant to Section 221 of the Trade Act of 1974, as amended, an investigation was initiated on May 6, 2009, in response to a petition filed on behalf of workers of North River Boats, Roseburg, Oregon.

The petitioners have requested that the petition be withdrawn. Consequently, the investigation has been terminated.

Signed at Washington, DC, this 29th day of June 2009.
Richard Church,
Certifying Officer, Division of Trade Adjustment Assistance.

[FR Doc. E9-18041 Filed 7-28-09; 8:45 am]

BILLING CODE 4510-FN-P